DEPARTMENT OF TRANSPORTATION

Federal Aviation Administration

Notice of Intent To Request Extension From the Office of Management and Budget of a Currently Approved Information Collection Activity, Request for Comments; Flight Standards Customer Satisfaction Survey

AGENCY: Federal Aviation Administration (FAA), DOT.

ACTION: Notice and request for comments.

SUMMARY: The FAA invites public comments about our intention to request the Office of Management and Budget (OMB) to approve a current information collection. The FAA has initiated customer service surveys throughout the agency, requiring that every element have contact with their customers to assure that their needs are being met and that service is improved.

DATES: Please submit comments by July 12, 2010.

FOR FURTHER INFORMATION CONTACT: Carla Mauney on (202) 267-9895, or by e-mail at: Carla.Mauney@faa.gov.

SUPPLEMENTARY INFORMATION:

Federal Aviation Administration (FAA)

Title: Flight Standards Customer Satisfaction Survey.

Type of Request: Extension without change of an approved collection.

OMB Control Number: 2120-0568.

Forms(s): There are no FAA forms associated with this collection.

Affected Public: A total of 5,000 Respondents.

Frequency: The information is collected on occasion.

Estimated Average Burden Per Response: Approximately 10 minutes per response.

Estimated Annual Burden Hours: An estimated 542 hours annually.

Abstract: The FAA has initiated customer service surveys throughout the agency, requiring that every element have contact with their customers to assure that their needs are being met and that service is improved. Data from these surveys will be analyzed by Flight Standards Service, Organizational Resources and Program Management Division, and the General Aviation and Commercial Division.

ADDRESSES: Send comments to the FAA at the following address: Ms. Carla Mauney, Room 712, Federal Aviation Administration, IT Enterprises Business Services Division, AES-200, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on May 5, 2010.
Carla Mauney,
FAA Information Collection Clearance Officer, IT Enterprises Business Services Division, AES-200.

[FR Doc. 2010-11228 Filed 5-10-10; 8:45 am]

BILLING CODE 4910-13-P